DEPARTMENT OF HEALTH AND HUMAN SERVICES

Administration for Children and Families

Proposed Information Collection Activity; Comment Request

Proposed Projects: Reinstate and Extend Collection with Modification—Social Services Block Grant (SSBG) Post-Expenditure Report.

Title: Social Services Block Grant (SSBG) Post-Expenditure Report.

OMB No.: 0970-0234.

Description: The purpose of this is to request approval to: (1) Reinstate and extend the collection of post-expenditure data using the current OMB approved Post-Expenditure Reporting form (OMB No. 0970-0234) with modification past the current expiration date of November 30, 2017; (2) propose 8 minor additions to the current Post-Expenditure Reporting form; and (3) to request that grantees continue to voluntarily submit estimated pre-expenditure data using the Post-Expenditure Reporting form, as part of the required annual Intended Use Plan.

The Social Services Block Grant (SSBG) is authorized under Title XX of the Social Security Act, as amended, and is codified at 42 U.S.C. 1397 through 1397e. SSBG provides funds to States, the District of Columbia, Puerto Rico, American Samoa, Guam, the Virgin Islands, and the Commonwealth of the Northern Mariana Islands (hereinafter referred to as States and Territories or grantees) to assist in delivering critical services to vulnerable older adults, persons with disabilities, at-risk adolescents and young adults, and children and families. SSBG funds are distributed to each State and the District of Columbia based on each State's population relative to all other States. Distributions are made to Puerto Rico, Guam, American Samoa, the Virgin Islands, and the Commonwealth of the Northern Mariana Islands based on the same ratio allotted to them in 1981 as compared to the total 1981 appropriation.

Each State or Territory is responsible for designing and implementing its own use of SSBG funds to meet the specialized needs of their most vulnerable populations. States and Territories may determine what services will be provided, who will be eligible, and how funds will be distributed among the various services. State or local SSBG agencies (i.e., county, city, regional offices) may provide the services or grantees may purchase services from qualified agencies, organizations, or individuals. States and Territories must administer the SSBG according to their accepted Intended Use Plan, along with amendments, and in conformance with their own implementing rules and policies. The Office of Community Services (OCS), Administration for Children and Families administers the SSBG.

Annually, grantees are required to submit a Pre-Expenditure Report and Intended Use Plan as a prerequisite to receiving SSBG funds. The Pre-Expenditure Report must include information on the types of services to be supported and the characteristics of individuals to be served. This report is to be submitted 30 days prior to the start of the Fiscal Year (June 1 if the State operates on a July-June Fiscal Year, or September 1 if the State operates on a Federal Fiscal Year). No specific format is required for the Intended Use Plan. Grantees are required to submit a revised Intended Use Plan and Pre-Expenditure Report if the planned use of SSBG funds changes during the year (42 U.S.C. 1397c).

In order to provide a more accurate analysis of the extent to which funds are spent “in a manner consistent” with each of the grantees' plan for their use, as required by 42 U.S.C. 1397e (a), OCS continues to request that States voluntarily use the format of the Post-Expenditure Reporting form to create their Pre-Expenditure Report, which provides estimates of the amount of expenditures and the number of recipients, by service category, and is submitted as part of the grantees' Intended Use Plan. Most of the States and Territories are currently using the format of the Post-Expenditure Reporting form to report estimated expenditures and recipients (the Pre-Expenditure Report), by service category, as part of their Intended Use Plan.

On an annual basis, States and Territories are also required to submit a Post-Expenditure Report that details their use of SSBG funds in each of 29 service categories. Grantees are required to submit their Post-Expenditure Report within six months of the end of the period covered by the report. The Post-Expenditure Report must address (1) The number of individuals (including number of children and number of adults) who receive services paid for, in whole or in part, with Federal funds under the SSBG; (2) The amount of SSBG funds spent in providing each service; (3) The total amount of Federal, State, and Local funds spent in providing each service, including SSBG funds; (4) The method(s) by which each service is provided, showing separately the services provided by public and private agencies; and (5) The criteria applied in determining eligibility for each service such as income eligibility guidelines, sliding scale fees, the effect of public assistance benefits, and any requirements for enrollment in school or training programs (45 CFR 96.74a). The Post-Expenditure Report must also; (1) Indicate if recipient totals are actual or if the total reported is based on estimates and/or sampled data; and (2) use its own definition of child and adult in reporting the required data (45 CFR 96.74b).

This request seeks approval to reinstate and continue the use of the current OMB approved Post-Expenditure Reporting form (OMB No. 0970-0234) with modification, for estimating expenditures and recipients as part of States'/Territories' Pre-Expenditure Reports and for annual Post-Expenditure Reporting. The proposed modifications seek to consolidate information that would be stored or transmitted elsewhere into the singular reporting form to allow OCS to better analyze and provide guidance to improve States efficiency in grant administration. These modifications address the regulations 42 U.S.C. 1397e and 45 CFR 96.74 cited above by providing space on the Post-Expenditure form to indicate the required information.

Beginning in 2013, States completed the current reporting form on the SSBG Portal. The SSBG Portal is a secure web-based data portal. The SSBG Portal allows for more efficient data submission without increasing the overall burden on States. Until recently, Territories reported the data on the Post-Expenditure Reporting form in Microsoft Excel and submitted it to ACF, via email or posted mail. In 2017, Territories can complete the current reporting form on the SSBG Portal. The SSBG Portal provides a user-friendly means for States and Territories to submit and access their Pre-Expenditure and Post-Expenditure and Recipient Data.

Information collected in the Post-Expenditure Reports submitted by States and Territories is analyzed and described in an annual report on SSBG expenditures and recipients produced by the Office of Community Services (OCS), Administration for Children and Families (ACF). The information contained in this report is used for grant planning and management. The data establishes how SSBG funding is used for the provision of services in each State or Territory.

The data is also analyzed to determine the performance of States and Territories in meeting the SSBG performance measures developed to meet the requirements of the Government Performance and Results Act of 1993 (GPRA), as amended by the GPRA Modernization Act of 2010 [Pub. L. 11-352; 31 U.S.C 1115(b)(10)]. GPRA requires all Federal agencies to develop measurable performance goals.

The SSBG currently has an administrative costs efficiency measure which is intended to decrease the percentage of SSBG funds identified as administrative costs in the Post-Expenditure Reports [U.S. Department of Health and Human Services, Administration for Children and Families, Office of Community Services. (2007, June). Implementing a new performance measure to enhance efficiency (Information Memorandum Transmittal No. 04-2007). Available from https://www.acf.hhs.gov/ocs/resource/implementing-a-new-performance-measure-to-enhance-efficiency]. The SSBG also implements a performance measure designed to ensure that SSBG funds are spent effectively and efficiently while maintaining the intrinsic flexibility of the SSBG as a block grant. The performance measure assesses the degree to which States and Territories spend SSBG funds in a manner consistent with their intended use, as required by Federal law [42 U.S.C. 1397e(a); U.S. Department of Health and Human Services, Administration for Children and Families, Office of Community Services. (2012, February). Implementation of a new performance measure (Information Memorandum Transmittal No. 01-2012). Available from https://www.acf.hhs.gov/ocs/resource/implementation-of-a-new-performance-measure]. It will be used to determine how well grantees are doing overall in minimizing variance between projected and actual expenditures of SSBG funds. This program measure began implementation with FY 2013 data and remains ongoing.

Respondents: The Post-Expenditure Reporting form and Pre-Expenditure Report are completed once annually by a representative of the agency that administers the Social Services Block Grant at the State or Territory level. Respondents include the 50 States, the District of Columbia, and Puerto Rico, as well as the territories of American Samoa, Guam, the Virgin Islands, and the Commonwealth of Northern Mariana Islands.

Annual Burden Estimates
Instrument | Number of respondents | Number of responses per respondent | Average burden hours per response | Total burden hours
Post-Expenditure Reporting Form | 56 | 1 | 110 | 6,160
Use of Post-Expenditure Reporting Form as Part of the Intended Use Plan | 56 | 1 | 2 | 112

Estimated Total Annual Burden Hours: 6,272.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW., Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-09581 Filed 5-10-17; 8:45 am]

BILLING CODE 4184-24-P